DEPARTMENT OF TRANSPORTATION

National Highway Traffic Safety Administration

[U.S. DOT Docket No. NHTSA-01-10911]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under new procedures established by the Paperwork Reduction Act of 1995, before seeking OMB approval, Federal agencies must solicit public comment on proposed collections of information, including extensions and reinstatements of previously approved collections.

This document describes one collection of information for which NHTSA intends to seek OMB approval.

DATES: Comments must be received on or before February 19, 2002.

ADDRESSES: Direct all written comments to U.S. Department of Transportation Dockets, 400 Seventh Street, SW., Plaza 401, Washington, DC 20590. Docket No. NHTSA-01-10911.

FOR FURTHER INFORMATION CONTACT: Mr. Alan Block, Contracting Officer's Technical Representative, Office of Research and Traffic Records (NTS-31), National Highway Traffic Safety Administration, 400 Seventh Street, SW., Room 6240, Washington, DC 20590.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Buckle Up America Telephone Surveys 2002-2004

Type of Request—New information collection requirement.

OMB Clearance Number—None.

Form Number—This collection of information uses no standard forms.

Requested Expiration Date of Approval—December 31, 2004.

Summary of the Collection of Information—NHTSA proposes to conduct telephone surveys both immediately before, and after, biannual national mobilizations carried out as part of the Buckle Up America (BUA) Campaign. Participation by respondents would be voluntary. The national mobilizations are conducted each year during May and November. The mobilizations are designed to increase seat belt and child restraint use through education and enforcement of restraint laws. NHTSA would conduct four survey waves per year over a three year period beginning in 2002. During each year, NHTSA would conduct a survey wave: (1) Immediately preceding the May Mobilization; (2) immediately following the May Mobilization; (3) immediately preceding the November Mobilization; and (4) immediately following the November Mobilization. Each survey wave would be composed of a national sample of 1200 respondents, as well as multiple independent State samples of 500 respondents each. An average of 25 independent State samples would be surveyed per survey wave across the three year period, producing an average of 13,700 total interviews per survey wave. Prior to each mobilization, NHTSA would select specific States to be included among the independent State samples based on mobilization activities planned within the States. The surveys would collect information regarding public awareness of the mobilization, public perceptions of enforcement of motor vehicle restraint laws, public attitudes concerning motor vehicle restraint use, and the public's reported use of motor vehicle restraint systems.

In conducting the proposed survey, the interviewers would use computer-assisted telephone interviewing to reduce interview length and minimize recording errors. A Spanish-language translation and bilingual interviewers would be used to minimize language barriers to participation. The proposed survey would be anonymous and confidential.

Description of the Need for the Information and Proposed Use of the Information

The National Highway Traffic Safety Administration (NHTSA) was established to reduce the mounting number of deaths, injuries and economic losses resulting from motor vehicle crashes. As part of this statutory mandate, NHTSA is authorized to conduct research as a foundation for the development of motor vehicle standards and traffic safety programs.

Wearing a seat belt is the most effective action a person can take to avert death or injury in the event of a motor vehicle crash. Research has found that lap/shoulder belts reduce the risk of fatal injury to front-seat passenger car occupants by 45 percent and the risk of moderate-to-critical injury by 50 percent. For light truck occupants, seat belts reduce the risk of fatal injury by 60 percent and moderate-to-critical injury by 65 percent.

Buckle Up America (BUA) is a Presidential Initiative for increasing seat belt use and child restraint use nationwide. National goals are to increase seat belt use to 90 percent by 2005, and reduce child (0-4 years) occupant fatalities by 25 percent (from the 1995 number) by 2005. The BUA strategic plan, developed with input from both the public and private sectors, contains four key elements for achieving the goals: (1) Building public-private partnerships; (2) enactment of strong legislation by States; (3) active, high visibility law enforcement; and (4) effective public education. Guided by the strategic plan, the BUA Campaign carries out regularly scheduled national mobilizations that combine high visibility enforcement with education.

The national mobilizations are a major component of the BUA Campaign. As such, there is a need to evaluate their effectiveness. The proposed surveys would provide pre- and post-test measures for each mobilization conducted during the three year period beginning May 2002. The two measures would be compared to assess whether the mobilization activities and messages penetrated public awareness, whether the public found the message of increased enforcement activity credible, and whether the mobilization affected attitudes and (self-reported) behavior concerning restraint use. Many of the comparisons would need to be made at the State level because of substantial differences across States in their mobilization activities (e.g., intensity of enforcement efforts, use of media, publicized support, etc.). NHTSA would select specific States from which to draw independent samples based on their planned mobilization activities.

Description of the Likely Respondents (Including Estimated Number, and Proposed Frequency of Response to the Collection of Information)

Under this proposed effort, a telephone interview averaging ten minutes in length would be administered to randomly selected members of the general public age 16 and older in telephone households. There would be a total of 12 survey waves conducted over a period of three years (four per year). An average of 13,700 persons would be interviewed per survey wave. Each survey wave would be comprised of a national sample, and multiple independent State samples. The national sample would be selected from all 50 States plus the District of Columbia. The independent State samples would be composed of 500 persons per State. There would be an average of 25 independent State samples per survey wave. Together with the national sample, there would be an average of 13,700 interviews per survey wave. Interviews would be conducted with persons at residential phone numbers selected through random digit dialing. Businesses are ineligible for the sample and would not be interviewed. No more than one respondent would be selected per household. Each member of the sample would complete one interview. No respondent would participate in more than one survey wave.

Estimate of the Total Annual Reporting and Record Keeping Burden Resulting From the Collection of Information

NHTSA estimates that each respondent in the sample would require an average of 10 minutes to complete the telephone interview. The number of estimated reporting burden hours a year on the general public (13,700 respondents multiplied by one interview multiplied by 10 minutes multiplied by four survey waves) would be 9,133. The respondents would not incur any reporting cost from the information collection. The respondents also would not incur any record keeping burden or record keeping cost from the information collection.

Rose A. McMurray,
Associate Administrator, Office of Traffic Safety Programs.

[FR Doc. 01-31109 Filed 12-17-01; 8:45 am]

BILLING CODE 4910-59-P